NATIONAL CREDIT UNION ADMINISTRATION

Sunshine Act; Notice of Agency Meeting

Time and Date: 10 a.m., Thursday, February 18, 2010.

Place: Board Room, 7th Floor, Room 7047, 1775 Duke Street, Alexandria, VA 22314-3428.

Status: Open.

Matters to be Considered:

1. Board Briefing. Interim Final Rule—Section 701.34 of NCUA's Rules and Regulations, Secondary Capital Accounts for Low-Income Credit Unions.

2. Insurance Fund Report.

Recess: 11 a.m.

Time and Date: 11:15 a.m., Thursday, February 18, 2010.

Place: Board Room, 7th Floor, Room 7047, 1775 Duke Street, Alexandria, VA 22314-3428.

Status: Closed.

Matters to be Considered:

1. Consideration of Supervisory Activities. Closed pursuant to Exemptions (8), (9)(A)(ii) and 9(B).

FOR FURTHER INFORMATION CONTACT: Mary Rupp, Secretary of the Board, Telephone: 703-518-6304.

Mary Rupp,
Board Secretary.

[FR Doc. 2010-3131 Filed 2-16-10; 11:15 am]

BILLING CODE P